DEPARTMENT OF LABOR

Employment and Training Administration

Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirements on respondents can be properly assessed.

Currently, the Employment and Training Administration is soliciting comments concerning the proposed extension of the collection of the ETA 9048, Worker Profiling and Re-employment Services Activity, and the ETA 9049, Worker Profiling and Re-employment Services Outcomes. A copy of the proposed information collection request (ICR) can be obtained by contacting the office listed below in the addressee section of this notice.

DATES: Written comments must be submitted to the office listed in the addressee section below on or before November 6, 2000.

Addressee

Diane Wood, Unemployment Insurance Service, 200 Constitution Ave. NW, Room S-4321, Washington, DC 20210; telephone 202-219-5340 x181; fax 202-219-8506 (these are not toll-free numbers).

SUPPLEMENTARY INFORMATION:

I. Background

The Worker Profiling and Re-employment Services (WPRS) program allows for the targeting of re-employment services to those most in need. The ETA 9048 and ETA 9049 are the only means of tracking the activities in the WPRS program. The ETA 9048 reports on the flows of claimants through the various stages of the WPRS system from initial profiling through to completion of various types of services allowing for evaluation and monitoring of the program. The ETA 9049 gives a limited, but inexpensive, look at the re-employment experience of profiled claimants who were referred to services by examining the State's existing wage record files to see in what quarter the referred individuals show up in employment, what wages they are earning and if they have changed industries.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

As the only continuous source of information on the WPRS program, the data is required to monitor and evaluate the WPRS program. There is a minor change to this reporting requirement to eliminate one data element.

Type of Review: Extension of a currently approved collection.

AGENCY: Employment and Training Administration.

Title: Worker Profiling and Re-employment Services Activity, and Worker Profiling and Re-employment Services Outcomes.

OMB Number: 1205-0353.

Agency Number: ETA 9048 and ETA 9049.

Affected Public: State Governments.

Total Respondents: 53.

Frequency: Quarterly.

Total Responses: 424.

Average Time per Response: 15 minutes.

Estimated Total Burden Hours: 106 hours.

Report | Total | Frequency | Total response | Average time per response (hour) | Average burden (hour)
ETA 9048 | 53 | Quarterly | 212 | .25 | 53
ETA 9049 | 53 | Quarterly | 212 | .25 | 53
Totals | 106 |  | 424 |  | 106

Total Burden Cost (operating/maintaining): At approximately $25 per hour average State salary, the State burden is estimated at $2,650 per year. Comments submitted in response to this comment request will be summarized and/or included in the request for Office of Management and Budget approval of the information collection request; they will also become a matter of public record.

Dated: August 29, 2000.
Grace A. Kilbane,
Administrator, Office of Workforce Security.

[FR Doc. 00-22639 Filed 9-1-00; 8:45 am]

BILLING CODE 4510-30-P